DEPARTMENT OF TRANSPORTATION

Federal Railroad Administration

[Docket Number FRA-2006-25765]

Union Pacific Railroad Company; Notice of Public Hearing and Extension of Comment Period

On November 28, 2006, the Federal Railroad Administration (FRA) published a notice in the Federal Register announcing the Union Pacific Railroad Company's (UP) request for a waiver of compliance from certain provisions of Title 49 Code of Federal Regulations (CFR) Part 232, Brake and System Safety Standards for Freight and Other Non-passenger Trains and Equipment; 49 CFR part 215, End of Train Devices; 49 CFR 229, Freight Car Safety Standards; and 71 FR 68885, Locomotive Safety Standards. Specifically, UP requests that the following regulations be waived to allow inspections and tests to be performed on run-through trains originating in Mexico and subsequently interchanged to UP at Laredo, Texas, from the Kansas City Southern de Mexico Railroad (KCSM) and be considered valid without having to perform additional train or locomotive inspections by UP on the U.S. side of the border: 49 CFR 232.205, Class I brake test-initial terminal inspection; 49 CFR 232.409, Inspection and testing of end-of-train devices; 49 CFR 215.13, Pre-departure inspection; and 49 CFR 229.21, Daily inspection.

FRA received several comments from interested parties and requests for a public hearing and an extension of the public comment period. With this notice, FRA is granting both of these requests.

Accordingly, a public hearing is hereby scheduled to begin at 9 a.m. on February 7, 2007, at La Posada Hotel and Suites, 1000 Zaragoza Street, in Laredo, Texas. Interested parties are invited to present oral statements at the hearing. The hearing will be informal and will be conducted in accordance with FRA's Rules of Practice (49 CFR 211.25) by a representative designated by FRA. FRA's representative will make an opening statement outlining the scope of the hearing, as well as any additional procedures for the conduct of the hearing. The hearing will be a nonadversarial proceeding in which all interested parties will be given the opportunity to express their views regarding the waiver petition, without cross-examination. After all initial statements have been completed, individuals wishing to make a brief rebuttal statement will be given an opportunity to do so in the same order in which the initial statements were made.

In addition, FRA is hereby extending the comment period to February 21, 2007. All communications concerning this waiver petition should identify the appropriate docket number (FRA-2006-25765) and must be submitted to the Docket Clerk, DOT Docket Management Facility, Room PL-401 (Plaza Level), 400 7th Street, SW., Washington, DC 20590. All written communications concerning these proceedings are available for examination during regular business hours (9 a.m.-5 p.m.) at the above facility. Documents in the public docket are also available for review and copying on the Internet at the docket facility Web site at http://dms.dot.gov.

Anyone is able to search the electronic form of all comments received into any of our dockets by the name of the individual submitting the comment (or signing the document, if submitted on behalf of an association, business, labor union, etc.). You may review the DOT Privacy Act Statement in the Federal Register published on April 11, 2000 (Volume 65, Number 70; Pages 19477-78). The statement may also be found at http://dms.dot.gov.

Issued in Washington, DC on December 26, 2006.
Grady C. Cothen, Jr.,
Deputy Associate Administrator for Safety Standards and Program Development.

[FR Doc. E6-22443 Filed 12-29-06; 8:45 am]

BILLING CODE 4910-06-P